DEPARTMENT OF TRANSPORTATION

Office of the Secretary

Aviation Proceedings, Agreements Filed the Week Ending May 18, 2007

The following Agreements were filed with the Department of Transportation under the Sections 412 and 414 of the Federal Aviation Act, as amended (49 U.S.C. 1383 and 1384) and procedures governing proceedings to enforce these provisions. Answers may be filed within 21 days after the filing of the application.

Docket Number: OST-2007-28248.

Date Filed: May 15, 2007.

Parties: Members of the International Air Transport Association.

Subject: Mail Vote 535—Resolution 010r, TC3 Special Passenger Amending Resolution, between Malaysia (MY) and Hong Kong SAR (HK) (Memo 1094), Intended effective date: 25 May 2007.

Renee V. Wright,
Program Manager, Docket Operations, Federal Register Liaison.

[FR Doc. E7-10300 Filed 5-29-07; 8:45 am]

BILLING CODE 4910-9X-P